NATIONAL AERONAUTICS AND SPACE ADMINISTRATION

[Notice (03-838)]

Notice of Prospective Patent License

AGENCY: National Aeronautics and Space Administration.

ACTION: Notice of prospective patent license.

SUMMARY: NASA hereby gives notice that Automated Control Technologies, Inc. of 2009 Pleasant Valley Road, Fairmont, WV 26554, has applied for a Partially Exclusive license to practice the inventions described in NASA Case Number LAR-13845 1-CU entitled “Reactivation Of A Tin Oxide-Containing Catalyst,” NASA Case Number LAR-13741-1-SB entitled “Process for Making a Noble Metal on Tin Oxide Catalyst,” NASA Case Number LAR-14155-1-SB entitled “Catalyst For Carbon Monoxide Oxidation,” NASA Case Number LAR14155-2-SB entitled “Catalyst For Carbon Monoxide Oxidation,” NASA Case Number LAR-15351-1-CU entitled “Catalytic Process For Formaldehyde Oxidation,” NASA Case Number LAR-15652-1-CU entitled “Catalyst For Oxidation Of Volatile Organic Compounds” for which U.S. Patents were issued and assigned to the United States of America as represented by the Administrator of the National Aeronautics and Space Administration and NASA Case Number LAR15851-1-CU entitled “Process For Coating Substrates With Catalyst Materials” for which a U.S. Patent Application was filed and assigned to the United States of America as represented by the Administrator of the National Aeronautics and Space Administration. Written objections to the prospective grant of a license should be sent to Langley Research Center.

DATES: Responses to this notice must be received by April 24, 2003.

FOR FURTHER INFORMATION CONTACT: Helen M. Galus, Patent Attorney, Langley Research Center, Mail Stop 212, Hampton, VA 23681-2199. Telephone 757-864-3227; Fax 757-864-9190.

Dated: April 3, 2003.
Robert M. Stephens,
Deputy General Counsel.

[FR Doc. 03-8636 Filed 4-8-03; 8:45 am]

BILLING CODE 7510-01-P